DEPARTMENT OF TRANSPORTATION

Federal Aviation Administration

14 CFR Part 39

[Docket No. FAA-2022-0092; Project Identifier MCAI-2020-01428-A]

RIN 2120-AA64

Airworthiness Directives; Pilatus Aircraft Ltd. Airplanes

AGENCY: Federal Aviation Administration (FAA), DOT.

ACTION: Notice of proposed rulemaking (NPRM).

SUMMARY: The FAA proposes to adopt a new airworthiness directive (AD) for certain Pilatus Aircraft Ltd. (Pilatus) Model PC-12/47E airplanes. This proposed AD results from mandatory continuing airworthiness information (MCAI) originated by an aviation authority of another country to identify and correct an unsafe condition on an aviation product. The MCAI identifies the unsafe condition as a batch of incorrectly sized fuel transfer ejector nozzles that were installed on Model PC-12/47E airplanes during production. This proposed AD would require removing the affected fuel transfer ejectors from service and prohibiting installation of the affected fuel transfer ejectors. The FAA is proposing this AD to address the unsafe condition on these products.

DATES: The FAA must receive comments on this proposed AD by March 28, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Pilatus Aircraft Ltd., CH-6371, Stans, Switzerland; phone: +41 848 24 7 365; email: techsupport.ch@pilatus-aircraft.com; website: https://www.pilatus-aircraft.com/. You may view this service information at the FAA, Airworthiness Products Section, Operational Safety Branch, 901 Locust, Kansas City, MO 64106. For information on the availability of this material at the FAA, call (817) 222-5110.

Examining the AD Docket

You may examine the AD docket at https://www.regulations.gov by searching for and locating Docket No. FAA-2022-0092; or in person at Docket Operations between 9 a.m. and 5 p.m., Monday through Friday, except Federal holidays. The AD docket contains this NPRM, the MCAI, any comments received, and other information. The street address for Docket Operations is listed above.

FOR FURTHER INFORMATION CONTACT: Doug Rudolph, Aviation Safety Engineer, FAA, General Aviation & Rotorcraft Section, International Validation Branch, 901 Locust, Room 301, Kansas City, MO 64106; phone: (816) 329-4059; email: doug.rudolph@faa.gov.

SUPPLEMENTARY INFORMATION:

Comments Invited

The FAA invites you to send any written relevant data, views, or arguments about this proposal. Send your comments to an address listed under the ADDRESSES section. Include “Docket No. FAA-2022-0092; Project Identifier MCAI-2020-01428-A” at the beginning of your comments. The most helpful comments reference a specific portion of the proposal, explain the reason for any recommended change, and include supporting data. The FAA will consider all comments received by the closing date and may amend this NPRM because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Doug Rudolph, Aviation Safety Engineer, FAA, General Aviation & Rotorcraft Section, International Validation Branch, 901 Locust, Room 301, Kansas City, MO 64106. Any commentary that the FAA receives that is not specifically designated as CBI will be placed in the public docket for this rulemaking.

Background

The European Union Aviation Safety Agency (EASA), which is the Technical Agent for the Member States of the European Union, has issued EASA AD 2020-0229, dated October 20, 2020 (referred to after this as “the MCAI”), to correct an unsafe condition on Pilatus Model PC-12/47E airplanes with serial number 2001 and larger. The MCAI states:

An occurrence was reported where, on the production line, a batch of fuel transfer ejectors with an incorrect (too small) nozzle diameter were installed on some PC-12/47E aeroplanes. Such fuel transfer ejectors are not in compliance with the latest approved design data.

This condition, if not corrected, could result in a restriction of the motive fuel flow due to ice accumulation, possibly resulting in a reduction of safety margins in the fuel system.

To address this potential unsafe condition, Pilatus issued the SB [Service Bulletin] to provide replacement instructions.

For the reason described above, this [EASA] AD requires replacement of the affected parts with serviceable parts, as defined in the [EASA] AD. This [EASA] AD also prohibits (re-)installation of affected parts.

You may examine the MCAI in the AD docket at https://www.regulations.gov by searching for and locating Docket No. FAA-2022-0092.

Related Service Information Under 1 CFR Part 51

The FAA reviewed Pilatus PC-12 Service Bulletin No. 28-014, dated August 12, 2020. This service information contains the serial numbers of the affected fuel transfer ejectors and specifies procedures for replacing the affected fuel transfer ejectors. This service information is reasonably available because the interested parties have access to it through their normal course of business or by the means identified in the ADDRESSES section.

FAA's Determination

This product has been approved by the aviation authority of another country, and is approved for operation in the United States. Pursuant to the FAA's bilateral agreement with this State of Design Authority, it has notified the agency of the unsafe condition described in the MCAI and service information referenced above. The FAA is issuing this NPRM after determining that the unsafe condition described previously is likely to exist or develop on other products of the same type design.

Proposed AD Requirements in This NPRM

This proposed AD would require accomplishing the actions specified in the service information already described. This proposed AD would also prohibit installation of any affected fuel transfer ejector on any airplane.

Costs of Compliance

The FAA estimates that this AD, if adopted as proposed, would affect 10 airplanes of U.S. Registry. Although there are 54 affected fuel transfer ejectors worldwide, the FAA has no way of knowing how many affected parts may be installed on airplanes of U.S. Registry. The estimated cost on U.S. operators reflects the maximum possible cost based on the 10 airplanes of U.S. registry.

The FAA estimates the following costs to comply with this proposed AD:

Estimated Costs
Action | Labor cost | Parts cost | Cost per airplane | Cost on U.S. operators
Replace an affected fuel transfer ejector | 5.5 work-hours × $85 per hour = $467.50 | $2,109 | $2,576.50 | $25,765

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Pilatus Aircraft Ltd.: Docket No. FAA-2022-0092; Project Identifier MCAI-2020-01428-A.

(a) Comments Due Date

The FAA must receive comments on this airworthiness directive (AD) by March 28, 2022.

(b) Affected ADs

None.

(c) Applicability

This AD applies to Pilatus Aircraft Ltd. Model PC-12/47E airplanes, serial numbers 2001 and larger, certificated in any category.

(d) Subject

Joint Aircraft Service Component (JASC) Code: 2800, Aircraft Fuel System.

(e) Unsafe Condition

This AD was prompted by mandatory continuing airworthiness information (MCAI) originated by an aviation authority of another country to identify and correct an unsafe condition on an aviation product. The MCAI describes the unsafe condition as a batch of incorrectly sized fuel transfer ejector nozzles that were installed on Model PC-12/47E airplanes during production. The FAA is issuing this AD to correct the installation of incorrectly sized fuel transfer ejectors nozzles. If not addressed, this unsafe condition could result in a restriction of motive fuel flow due to ice accumulation and lead to a reduction of safety margins in the fuel system with consequent loss of control of the airplane.

(f) Compliance

Comply with this AD within the compliance times specified, unless already done.

(g) Definitions

(1) For purposes of this AD, an “affected fuel transfer ejector” is a fuel transfer ejector part number (P/N) 968.84.71.112 with a serial number listed in the table on page 1 in section 1.C. of Pilatus PC-12 Service Bulletin No. 28-014, dated August 12, 2020 (Pilatus SB 28-014).

(2) For purposes of this AD, a “Group 1 airplane” is an airplane with an affected fuel transfer ejector installed.

(3) For purposes of this AD, a “Group 2 airplane” is an airplane without an affected fuel transfer ejector installed.

(h) Required Actions

For Group 1 airplanes: Within 4 months after the effective date of this AD, remove each fuel transfer ejector from service and install a serviceable part in accordance with Paragraph 3.B.(1) of the Accomplishment Instructions in Pilatus SB 28-014.

(i) Parts Installation Prohibition

As of the applicable time specified in paragraph (i)(1) or (i)(2) of this AD, do not install an affected fuel transfer ejector on any airplane.

(1) For Group 1 airplanes: After replacing the fuel transfer ejector as required by paragraph (h) of this AD.

(2) For Group 2 airplanes: As of the effective date of this AD.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(1) of this AD and email to: 9-AVS-AIR-730-AMOC@faa.gov.

(2) Before using any approved AMOC, notify your appropriate principal inspector, or lacking a principal inspector, the manager of the local flight standards district office/certificate holding district office.

(k) Related Information

(1) For more information about this AD, contact Doug Rudolph, Aviation Safety Engineer, FAA, General Aviation & Rotorcraft Section, International Validation Branch, 901 Locust, Room 301, Kansas City, MO 64106; phone: (816) 329-4059; email: doug.rudolph@faa.gov.

(2) Refer to MCAI European Union Aviation Safety Agency (EASA) AD 2020-0229, dated October 20, 2020, for related information. You may examine the EASA at https://www.regulations.gov by searching for and locating Docket No. FAA-2022-0092.

(3) For service information related to this AD, contact Pilatus Aircraft Ltd., Customer Support General Aviation, CH-6371 Stans, Switzerland; phone: +41 848 24 7 365; email: techsupport.ch@pilatus-aircraft.com; website: https://www.pilatus-aircraft.com. You may review this referenced service information at the FAA, Airworthiness Products Section, Operational Safety Branch, 901 Locust, Kansas City, MO 64106. For information on the availability of this material at the FAA, call (817) 222-5110.

Issued on February 2, 2022.
Lance T. Gant,
Director, Compliance & Airworthiness Division, Aircraft Certification Service.

[FR Doc. 2022-02714 Filed 2-9-22; 8:45 am]

BILLING CODE 4910-13-P